DEPARTMENT OF LABOR

Employment and Training Administration

[TA-W-35,472]

Tony Lama Boot Company, Justin Boot Company/Justin Management Company, El Paso, TX; Amended Certification Regarding Eligibility To Apply for Worker Adjustment Assistance

In accordance with Section 223 of the Trade Act of 1974 (19 USC 2273) the U.S. Department of Labor issued a Certification of Eligibility to Apply for Worker Adjustment Assistance on March 11, 1999 applicable to all workers of Tony Lama Boot Company located in El Paso, Texas. The notice was published in the Federal Register on April 6, 1999 (64 FR 16753).

At the request of the State agency, the Department reviewed the certification for workers of the subject firm. The workers are engaged in the production of boots. New information shows that some workers separated from employment at Tony Lama Boot Company had their wages reported under a separate unemployment insurance (UI) tax account for Justin Boot Company/Justin Management Company.

The intent of the Department's certification is to include all workers of Tony Lama Boot Company who were adversely affected by increased imports.

Accordingly, the Department is amending the certification to properly reflect this matter.

The amended notice applicable to TA-W-35,472 is hereby issued as follows:

All workers of Tony Lama Boot Company, Justin Boot Company/Justin Management Company, El Paso, Texas who became totally or partially separated from employment on or after December 21, 1997 through March 11, 2001 are eligible to apply for adjustment assistance under Section 223 of the Trade Act of 1974.

Signed at Washington, D.C. this 14th day of March, 2000.
Grant D. Beale,
Program Manager, Division of Trade Adjustment Assistance.

[FR Doc. 00-7120 Filed 3-21-00; 8:45 am]

BILLING CODE 4510-30-M